FEDERAL RETIREMENT THRIFT INVESTMENT BOARD

Sunshine Act; Notice of Meeting

Time and Date: 9 a.m. (EDT), August 21, 2006.

Place: 4th Floor Conference Room, 1250 H Street, NW., Washington, DC.

Status: Open.

Matters to be Considered:

1. Approval of the minutes of the July 17, 2006 Board member meeting.

2. Thrift Savings Plan activity report by the Executive Director.

CONTACT PERSON FOR MORE INFORMATION: Thomas J. Trabucco, Director, Office of External Affairs, (202) 942-1640.

Dated: August 11, 2006.
Thomas K. Emswiler,
Secretary to the Board, Federal Retirement Thrift Investment Board.

[FR Doc. 06-6940 Filed 8-11-06; 11:48 am]

BILLING CODE 6760-01-P